SECURITIES AND EXCHANGE COMMISSION

[File No. 500-1]

21st Century Technologies, Inc.; Order of Suspension of Trading

February 18, 2005.

It appears to the Securities and Exchange Commission that there is a lack of current and accurate information concerning the securities of 21st Century Technologies, Inc., (“21st Century”) because of questions that have been raised about the accuracy of publicly disseminated information concerning, among other things, the valuations assigned to certain purported assets of 21st Century in the company's most recent Quarterly Report on Form 10-Q and in other filings with the Commission.

The Commission is of the opinion that the public interest and the protection of investors require a suspension of trading in the securities of the above listed company.

Therefore, it is ordered, pursuant to section 12(k) of the Securities Exchange Act of 1934, that trading in the above listed company is suspended for the period from 9:30 a.m. e.s.t., February 18, 2005, through 11:59 p.m. e.s.t., on March 4, 2005.

By the Commission.
Jonathan G. Katz,
Secretary.

[FR Doc. 05-3507 Filed 2-18-05; 12:03 pm]

BILLING CODE 8010-01-P